DEPARTMENT OF HEALTH AND HUMAN SERVICES

Centers for Disease Control and Prevention

[Docket No. CDC-2017-0059]

Notice of Availability of Draft Environmental Impact Statement, Public Meeting, and Request for Comments; Site Acquisition and Campus Consolidation for the Centers for Disease Control and Prevention/National Institute for Occupational Safety and Health (CDC/NIOSH), Cincinnati, Ohio

AGENCY: Centers for Disease Control and Prevention (CDC), Department of Health and Human Services (HHS).

ACTION: Notice of Availability; announcement of public meeting; and request for comments.

SUMMARY: The Centers for Disease Control and Prevention (CDC) within the Department of Health and Human Services (HHS), in cooperation with the General Services Administration (GSA), announces the availability of a Draft Environmental Impact Statement (EIS) for the proposed acquisition of a site in Cincinnati, Ohio, and the development of this site into a new, consolidated CDC/National Institute for Occupational Safety and Health (NIOSH) campus (Proposed Action). The site being considered for acquisition and development is bounded by Martin Luther King Drive East to the south, Harvey Avenue to the west, Ridgeway Avenue to the north, and Reading Road to the east.

The Draft EIS and this notice are published pursuant to the requirements of the National Environmental Policy Act of 1969 (NEPA) as implemented by the Council on Environmental Quality (CEQ) Regulations (40 CFR parts 1500-1508). In parallel with the NEPA process, CDC is also conducting consultation under Section 106 of the National Historic Preservation Act to evaluate the potential effects, if any, of the Proposed Action on historic properties.

DATES:

Public Meeting: A public meeting in open house format will be held on March 14, 2018, in Cincinnati, Ohio to present the findings of the Draft EIS and to solicit comments. The meeting will begin at 6:00 p.m. and end no later than 9:00 p.m. In case of inclement weather, send an email to cdc-cincinnati-eis@cdc.gov or call (770) 488-8170 to check on the status of the meeting.

Written comments: Written comments must be submitted by March 26, 2018.

Deadline for Requests for Special Accommodations: Persons wishing to attend the public meeting who need special accommodations should contact Harry Marsh at 770-488-8170 by 5:00 p.m. Eastern Time, March 8, 2018.

ADDRESSES: The public meeting will be held at the Walnut Hills High School, 3250 Victory Parkway, Cincinnati, Ohio 45207. Attendees should use the Parking Lot D entrance, located off Jonathan Avenue.

Copies of the Draft EIS can be obtained at:

• Federal eRulemaking Portal: http://www.regulations.gov (reference Docket No. CDC-2017-0059)

• The Public Library of Cincinnati and Hamilton County—Avondale Branch, 3566 Reading Road, Cincinnati, Ohio 45229.

• The Public Library of Cincinnati and Hamilton County—Corryville Branch, 2802 Short Vine Street, Cincinnati, Ohio 45219.

• The Public Library of Cincinnati and Hamilton County—Main Library, 800 Vine Street, Cincinnati, Ohio 45202.

• The University of Cincinnati Walter C. Langsam Library, 2911 Woodside Drive, Cincinnati 45219.

• By written request (electronic copies only) to: cdc-cincinnati-eis@cdc.gov.

In addition to attending the public meeting, comments on the Draft EIS may be submitted by either of the following methods:

• Federal eRulemaking Portal: http://www.regulations.gov (Refer to Docket No. CDC-2017-0059; follow the instructions for submitting comments).

• U.S. Mail: Harry Marsh, Architect, Office of Safety, Security and Asset Management (OSSAM), Centers for Disease Control and Prevention, 1600 Clifton Road NE, MS-K80, Atlanta, Georgia 30329-4027.

Instructions: All U.S. Mail submissions must include the agency name and Docket Number. All relevant comments received will be posted to http://www.regulations.gov (personally identifiable information, except for first and last names, will be redacted). For access to the docket to review the comments received, go to http://www.regulations.gov.

FOR FURTHER INFORMATION CONTACT: Harry Marsh, Architect, Office of Safety, Security and Asset Management (OSSAM), Centers for Disease Control and Prevention, 1600 Clifton Road NE, MS-K80, Atlanta, Georgia 30329-4027, phone: (770) 488-8170, or email: cdc-cincinnati-eis@cdc.gov.

SUPPLEMENTARY INFORMATION:

Background: CDC is dedicated to protecting health and promoting quality of life through the prevention and control of disease, injury, and disability. NIOSH, one of CDC's Centers, Institute, and Offices, was established by the Occupational Safety and Health Act of 1970. NIOSH plans, directs, and coordinates a national program to develop and establish recommended occupational safety and health standards; conduct research and training; provide technical assistance; and perform related activities to assure safe and healthful working conditions for every working person in the United States.

Currently, three NIOSH research facilities—the Robert A. Taft Campus, Taft North Campus, and the Alice Hamilton Laboratory Campus—are located in Cincinnati, Ohio. These facilities no longer meet the research needs required to support occupational safety and health in the modern workplace. The facilities' deficiencies adversely affect NIOSH's ability to conduct occupational safety and health research in Cincinnati. The facilities' outdated designs create health and safety challenges for NIOSH laboratory employees and administrative staff. It is not possible to renovate the facilities located on the three campuses to meet current standards and requirements. Additionally, the current distribution of NIOSH activities across separate campuses in Cincinnati results in inefficiencies in scientific collaboration and the duplication of operational support activities. Therefore, CDC is proposing to relocate and consolidate its Cincinnati-based functions and personnel (approximately 550 employees) currently housed at the three existing campuses to a new, consolidated campus in Cincinnati.

Potential locations for the proposed new campus were identified through a comprehensive site selection process conducted by GSA on behalf of CDC. In June 2016, GSA issued a Request for Expressions of Interest (REOI) seeking potential sites capable of accommodating the proposed new campus. In response to the REOI, GSA received seven expressions of interest. Following an assessment of each site, GSA found that only one site qualified for further consideration (The Site). The Site encompasses all land between Martin Luther King Drive East to the south, Harvey Avenue to the west, Ridgeway Avenue to the north, and Reading Road to the east in Cincinnati, Ohio.

In accordance with NEPA, as implemented by the CEQ regulations (40 CFR parts 1500-1508), CDC, with GSA as a cooperating agency, has prepared a Draft EIS for the proposed acquisition of the Site and construction of a new, consolidated CDC/NIOSH campus on the Site. Under NEPA, Federal agencies are required to evaluate the environmental effects of their proposed actions and a range of reasonable alternatives to the proposed action before making a decision. The Draft EIS evaluates the potential impacts of two alternatives: The Proposed Action Alternative (acquisition of the Site and construction of a new, consolidated CDC/NIOSH campus) and the No Action Alternative (continued use of the existing campuses for the foreseeable future). No other alternatives were considered because only one qualifying site was identified through the site selection process briefly described above.

Impacts on the following resources are considered in the Draft EIS: Land use, zoning, and plans; community facilities; socioeconomics and environmental justice; utilities and infrastructure; visual quality; cultural resources; transportation; geology, topography, and soils; air quality; noise; and hazardous substances. The status of the Section 106 consultation process to date is documented in the Cultural Resources section of the Draft EIS.

The purpose of this Notice is to inform interested parties regarding the availability of the Draft EIS for review and to solicit comments. To facilitate public comments, a public meeting will be held on March 14, 2018 at the Walnut Hills High School, 3250 Victory Parkway, Cincinnati, Ohio 45207, from 6:00 p.m. to 9:00 p.m. Eastern Time. Attendees should use the Parking Lot D entrance, located off Jonathan Avenue. In case of inclement weather, email cdc-cincinnati-eis@cdc.gov or call (770) 488-8170 to check on the status of the meeting. The public meeting will be in open house format. Copies of the Draft EIS will be available at the meeting. Poster stations and fact sheets will provide a summary of the NEPA process and the findings of the Draft EIS. Representatives of CDC and GSA will be available to answer one-on-one questions. There will be no presentation or formal testimonies.

Participants may arrive at any time between 6:00 p.m. and 9:00 p.m. Eastern Time. Comment forms will be provided for written comments and a stenographer will be available to transcribe one-on-one oral comments.

After the public comment period ends, CDC and GSA will consider all comments received, revise the Draft EIS to address these comments, select a preferred alternative, and issue a Final EIS. CDC will consider the Final EIS when deciding whether to proceed with the proposed site acquisition and campus development.

Dated: February 1, 2018.
Sandra Cashman,
Executive Secretary, Centers for Disease Control and Prevention.

[FR Doc. 2018-02327 Filed 2-8-18; 8:45 am]

BILLING CODE 4163-18-P